DEPARTMENT OF ENERGY

Federal Energy Regulatory Commission

[Project No. 13123-002—California]

Eagle Crest Energy Company; Notice of Availability of the Final Environmental Impact Statement for the Eagle Mountain Pumped Storage Hydroelectric Project

In accordance with the National Environmental Policy Act of 1969 and the Federal Energy Regulatory Commission (Commission or FERC) regulations contained in the Code of Federal Regulations (CFR)(18 CFR part 380 [FERC Order No. 486,52 FR 47897]), the Office of Energy Projects has reviewed the application for license for the Eagle Mountain Pumped Storage Hydroelectric Project (FERC No. 13123), located on the site of the largely inactive Eagle Mountain mine in Riverside County, California, near the town of Desert Center and prepared a final environmental impact statement (EIS) for the project. The project would occupy 675.63 acres of Federal lands administered by the U.S. Bureau of Land Management.

The final EIS contains staff's analysis of the applicant's proposal and the alternatives for a licensee for the Eagle Mountain Pumped Storage Hydroelectric Project. The final EIS documents the views of governmental agencies, non-governmental organizations, affected Indian tribes, the public, the license applicant, and Commission staff.

A copy of the final EIS is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

For further information, please contact Kenneth Hogan at (202) 502-8434 or at kenneth.hogan@ferc.gov.

Dated: January 30, 2012.
Kimberly D. Bose,
Secretary.

[FR Doc. 2012-2453 Filed 2-2-12; 8:45 am]

BILLING CODE 6717-01-P